FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 11, 2016.

A. Federal Reserve Bank of Minneapolis (Jacquelyn K. Brunmeier, Assistant Vice President) 90 Hennepin Avenue, Minneapolis, Minnesota 55480-0291:

1. Richard W. Nebel, Munising, Michigan, to retain 10 percent or more of the shares of Peoples State Bancorp, Inc., Munising, Michigan, and for Richard W. Nebel, Jamie Nebel, Isabelle Nebel, Larson Nebel, Charles C. Nebel, Denise Nebel, Kyle Christian, Cameron Nebel, Chase Nebel, Kane Nebel, Keegan Nebel, Camie Nebel Conklin, Christopher Conklin, and Emma Conklin, all of Munising, Michigan; as a group acting in concert, to acquire 25 percent or more of the shares of Peoples State Bancorp, Inc., and thereby indirectly acquire Peoples State Bank of Munising, Munising, Michigan.

Board of Governors of the Federal Reserve System, July 21, 2016.
Margaret Shanks,
Deputy Secretary of the Board.

[FR Doc. 2016-17628 Filed 7-25-16; 8:45 am]

BILLING CODE 6210-01-P